INTERNATIONAL TRADE COMMISSION

[Investigation No. 731-TA-861 (Final)]

Certain Expandable Polystyrene Resins From Indonesia

Determination

On the basis of the record¹ developed in the subject investigation, the United States International Trade Commission determines, pursuant to section 735(b) of the Tariff Act of 1930 (19 U.S.C. 1673d(b)) (the Act), that an industry in the United States is not materially injured or threatened with material injury and the establishment of an industry in the United States is not materially retarded, by reason of imports from Indonesia of certain expandable polystyrene resins, provided for in subheading 3903.11.00 of the Harmonized Tariff Schedule of the United States, that have been found by the Department of Commerce to be sold in the United States at less than fair value (LTFV).

¹ The record is defined in sec. 207.2(f) of the Commission's Rules of Practice and Procedure (19 CFR § 207.2(f)).

Background

The Commission instituted this investigation effective November 22, 1999, following receipt of a petition filed with the Commission and the Department of Commerce by BASF Corp., Mount Olive, NJ; Huntsman Expandable Polymers Co. LC, Salt Lake City, UT; NOVA Chemicals, Inc., Moon Township, PA; and StyroChem U.S., Ltd., Radnor, PA. The final phase of the investigation was scheduled by the Commission following notification of a preliminary determination by the Department of Commerce that imports of certain expandable polystyrene resins from Indonesia were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of August 9, 2000 (65 FR 48731, August 9, 2000). The hearing was held in Washington, DC, on November 7, 2000, and all persons who requested the opportunity were permitted to appear in person or by counsel.

The Commission transmitted its determination in this review to the Secretary of Commerce on December 20, 2000. The views of the Commission are contained in USITC Publication 3377 (December 2000), entitled Certain Expandable Polystyrene Resins from Indonesia: Investigation No. 730-TA-861 (Final).

By order of the Commission.
Issued: December 13, 2000.
Donna R. Koehnke,
Secretary.

[FR Doc. 00-32255 Filed 12-18-00; 8:45 am]

BILLING CODE 7020-02-P